DEPARTMENT OF EDUCATION

34 CFR Chapter III

[Docket ID ED-2014-OSERS-0011; CFDA Number: 84.133P-5.]

Final Priority; National Institute on Disability and Rehabilitation Research—Rehabilitation Research and Training Centers

AGENCY: Office of Special Education and Rehabilitative Services, Department of Education.

ACTION: Final priority.

SUMMARY: The Assistant Secretary for Special Education and Rehabilitative Services announces a priority under the Advanced Rehabilitation Research Training (ARRT) Program administered by the National Institute on Disability and Rehabilitation Research (NIDRR). Specifically, we announce a priority for an ARRT on Advanced Rehabilitation Research Policy Fellowship. The Assistant Secretary may use this priority for competitions in fiscal year (FY) 2014 and later years. We take this action to focus research attention on an area of national need. We intend the priority to strengthen the capacity of the disability and rehabilitation fields to train researchers to conduct advanced policy research in the areas of rehabilitation and disability.

DATES: This priority is effective August 20, 2014.

FOR FURTHER INFORMATION CONTACT: Marlene Spencer, U.S. Department of Education, 400 Maryland Avenue SW., Room 5133, Potomac Center Plaza (PCP), Washington, DC 20202-2700. Telephone: (202) 245-7532 or by email: marlene.spencer@ed.gov.

If you use a telecommunications device for the deaf (TDD) or a text telephone (TTY), call the Federal Relay Service (FRS), toll free, at 1-800-877-8339.

SUPPLEMENTARY INFORMATION:

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities. The program is also intended to improve the effectiveness of services authorized under the Rehabilitation Act of 1973, as amended (Rehabilitation Act).

Advanced Rehabilitation Research Training Program

The purpose of NIDRR's ARRT program, which is funded through the Disability and Rehabilitation Research Projects and Centers Program, is to provide advanced research training and experience to individuals with doctorates or similar degrees who have clinical or other relevant experience. ARRT projects train rehabilitation researchers, including researchers with disabilities, with particular attention to research areas that support the implementation and objectives of the Rehabilitation Act, and that improve the effectiveness of services authorized under the Rehabilitation Act. Additional information on the ARRT program can be found at: www.ed.gov/rschstat/research/pubs/res-program.html#ARRT.

Program Authority: 29 U.S.C. 762(g) and 764(b)(2).

Applicable Program Regulations: 34 CFR part 350.

We published a notice of proposed priority for this program in the Federal Register on May 13, 2014 (79 FR 27233). That notice contained background information and our reasons for proposing the particular priority.

There are differences between the proposed priority and this final priority as discussed in the Analysis of Comments and Changes section of this notice.

Public Comment: In response to our invitation in the notice of proposed priority, three parties submitted comments on the proposed priority.

Generally, we do not address technical and other minor changes.

Analysis of Comments and Changes: An analysis of the comments and of any changes in the priority since publication of the notice of proposed priority follows.

Comment: One commenter expressed concern with the requirement in paragraph (b), that applicants under this priority require their Rehabilitation Research Policy Fellows to complete a training program that lasts two years. The commenter stated that although a two-year training program is ideal, some high-quality fellowship candidates may not be able to dedicate two full years to such a program. The commenter noted that outstanding candidates for policy research fellowship positions may only desire a one-year fellowship or may be offered full-time academic positions that preclude them from completing a two-year fellowship program. The commenter suggested that NIDRR modify the priority to allow the grantee greater flexibility in determining the length of the fellowship period, if two years is not optimal for some fellowship candidates.

Discussion: NIDRR's aim is to sponsor a program that provides high-quality, multi-disciplinary policy research instruction and mentorship, as well as opportunities to engage in policy research in Washington, DC. Although the regulations for this program define the required duration as a minimum of at least one academic year, in recent years, the vast majority of grantees have elected to propose and implement a two-year training program to satisfy all the required components of the training program, including ensuring the desired outcome of independent research. NIDRR feels it is reasonable to expect that, for ARRT fellows who are selected to engage in the one-year Residential Fellowship opportunity in Washington, DC, it will take approximately two years to satisfy all the requirements of the program, including the residency in Washington, DC, and the program's classroom, didactic, and research productivity requirements described in paragraphs (c), (d), and (e).

At the same time, NIDRR generally agrees with the commenter that it may be difficult for a grantee to require each of its fellows to complete a two-year training program, especially those fellows who are not residential fellows as described in paragraph (f).

Changes: NIDRR has modified paragraph (b) of the priority to require that applicants design a two-year policy research fellowship program that fulfills all the required functions of an ARRT and, to the extent possible, to ensure that fellows complete the full program.

Final Priority

Advanced Rehabilitation Research Policy Fellowship

The Assistant Secretary for Special Education and Rehabilitative Services establishes a priority for an ARRT on Rehabilitation Research Policy. This priority fellowship program will expand the capacity of disability and rehabilitation researchers and scholars to conduct rigorous policy research that addresses issues important to policymakers and practitioners and that contributes to improved outcomes for individuals with disabilities and increased use and adoption of research findings to help shape future disability-related policy. The ARRT must contribute to improving the capacity of disability and rehabilitation researchers to conduct policy research by:

(a) Recruiting and selecting qualified candidates, including individuals with disabilities, for advanced research training on policy issues affecting one of NIDRR's three domains of individual well-being: (1) Community living and participation, (2) employment, or (3) health and function;

(b) Designing a two-year training program in advanced rehabilitation and disability policy-related research and analysis that is multidisciplinary, emphasizes scientific methods, and involves didactic and classroom instruction in current rehabilitation and disability policy issues; providing a disability policy research practicum experience; and, to the extent practical, ensuring that fellows complete the full program;

(c) Providing academic mentorship or guidance, and opportunities for scientific collaboration with qualified researchers at the host institution or another training or sponsoring organization. Other institutions or organizations used as training sites must have the staff and facilities on-site to provide a suitable environment for performing high-quality rehabilitation-related policy research;

(d) Providing opportunities for participation in the development of professional presentations and publications, and for attendance at professional conferences and meetings, as appropriate for the individuals' areas of study and levels of experience;

(e) Requiring that all Rehabilitation Research Policy Fellows complete a policy research project related to the NIDRR domains selected by the applicant (community living and participation, employment, or health and function); and

(f) Ensuring that at least two fellows are residential fellows and that each residential fellow spend the equivalent of one year in Washington, DC to conduct research at Congress or any relevant Federal department or agency of the fellow's choice within the Federal Executive or Legislative branch. Fellows must secure their own fellowship site placement.

Note 1: The costs associated with providing this residential policy practicum are the responsibility of the grantee, and must be reflected in the applicant's proposed budget.

Note 2: The grantee must ensure that fellows funded under this program are informed about the anti-lobbying requirements of Federal funding.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years, as projects similar to the one envisioned by the final priority have been completed successfully. The new ARRT will strengthen the capacity of the disability and rehabilitation fields to train researchers to conduct advanced policy research in the areas of rehabilitation and disability.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 16, 2014.
Michael K. Yudin,
Acting Assistant Secretary for Special Education and Rehabilitative Services.

[FR Doc. 2014-17109 Filed 7-18-14; 8:45 am]

BILLING CODE 4000-01-P